DEPARTMENT OF THE TREASURY

Office of Thrift Supervision

Proposed Agency Information Collection Activities; Comment Request

ACTION: Notice and request for comments.

SUMMARY: The Department of the Treasury, as part of its continuing effort to reduce paperwork and respondent burden, invites the general public and other Federal agencies to comment on proposed and continuing information collections, as required by the Paperwork Reduction Act of 1995, Public Law 104-13. Today, the Office of Thrift Supervision within the Department of the Treasury solicits comments on the Identification Requirements for Filings Package.

DATES: Submit written comments on or before June 26, 2001.

ADDRESSES: Mail: Send comments to Information Collection Comments, Chief Counsel's Office, Office of Thrift Supervision, 1700 G Street, NW., Washington, DC 20552, Attention 1550-0056.

Delivery: Hand deliver comments to the Guard's Desk, East Lobby Entrance, 1700 G Street, NW., from 9 a.m. to 4 p.m. on business days, Attention: Information Collection Comments, Chief Counsel's Office, 1550-0056.

Facsimiles: Send facsimile transmissions to FAX Number (202) 906-6518, Attention 1550-0056.

E-Mail: Send e-mails to “info collection.comments@ots.treas.gov”, Attention 1550-0056, and include your name and telephone number.

Public Inspection: Interested persons may inspect comments at the Public Reference Room, 1700 G St. NW., from 10 a.m. until 4 p.m. on Tuesdays and Thursdays or obtain comments and/or an index of comments by facsimile by telephoning the Public Reference Room at (202) 906-5900 from 9 a.m. until 5 p.m. on business days. Comments and the related index will also be posted on the OTS Internet Site at “www.ots.treas.gov”.

FOR FURTHER INFORMATION CONTACT: Nadine Washington, Office of Examination Policy, Office of Thrift Supervision, 1700 G Street, NW., Washington, DC 20552, (202) 906-6706.

SUPPLEMENTARY INFORMATION: Title: Identification Requirements for Filings.

OMB Number: 1550-0056.

Form Number: Not applicable.

Abstract: OTS filing procedures require that three copies be filed with the appropriate Regional Office. Certain applications require more than three copies because the application raises a significant issue of law or policy or because other agencies have statutory oversight over the application.

Current Actions: OTS proposes to renew this information collection with revision.

Type of Review: Renewal.

Affected Public: Business or For Profit.

Estimated Number of Respondents: 2,555.

Estimated Time Per Respondent: .17 average hours.

Estimated Total Annual Burden Hours: 434 hours.

Request for Comments: The OTS will summarize comments submitted in response to this notice or will include these comments in its request for OMB approval. All comments will become a matter of public record. The OTS invites comment on: (a) Whether the collection of information is necessary for the proper performance of the functions of the agency, including whether the information shall have practical utility; (b) the accuracy of the agency's estimate of the burden of the collection of information; (c) ways to enhance the quality; (d) ways to minimize the burden of the collection of information on respondents, including the use of automated collection techniques or other forms of information technology; and (e) estimates of capital or starting costs and costs of operation, maintenance, and purchase of services to provide information.

Dated: April 19, 2001.
Deborah Dakin,
Deputy Chief Counsel, Regulations and Legislation.

[FR Doc. 01-10372 Filed 4-26-01; 8:45 am]

BILLING CODE 6720-01-P